DEPARTMENT OF ENERGY

Energy Information Administration

Agency Information Collection Proposed Extension

AGENCY: U.S. Energy Information Administration (EIA), Department of Energy (DOE).

ACTION: Notice and request for comments.

SUMMARY: EIA invites public comment on the proposed three-year extension, with changes, to the Electric Power Surveys (EPS), as required under the Paperwork Reduction Act of 1995. EPS consists of ten surveys, including annual, monthly and one daily survey. These surveys collect data from entities involved in the production, transmission, delivery, and sale of electricity, and in maintaining the reliable operation of the power system. The data collected are the primary source of information on the nation's electric power system.

DATES: EIA must receive all comments on this proposed information collection no later than October 27, 2025. If you anticipate any difficulties in submitting your comments by the deadline, contact the person listed in the ADDRESSES section of this notice as soon as possible.

ADDRESSES: You may submit comments, identified by OMB control number 1905-0129, by email at EIA-FRNcomments@eia.gov. Include the OMB control number above in the subject line of the message.

FOR FURTHER INFORMATION CONTACT: Kenneth Pick, EIA Clearance Officer, at (202) 586-5562. The forms and instructions are available at https://www.eia.gov/survey/.

SUPPLEMENTARY INFORMATION: This information collection request contains:

(1) OMB No.: 1905-0129;

(2) Information Collection Request Title: Electric Power Surveys (EPS);

(3) Type of Request: Three-year extension with changes;

(4) Purpose: EIA's EPS consists of the following ten surveys:

Form EIA-860 Annual Electric Generator Report collects data on existing and planned electric generation plants, and associated equipment including generators, boilers, cooling systems, and environmental control systems. Data are collected from all existing units and from planned units scheduled for initial commercial operation within ten years of the specified reporting period (depending on the type of power plant).

Form EIA-860M Monthly Update to the Annual Electric Generator Report collects data on the status of proposed new generators scheduled to begin commercial operation within the future 12-month period; and existing generators that have proposed modifications that are scheduled for completion within one month. The information is needed to ensure a complete and accurate inventory of the nation's generating fleet, for such purposes as reliability and environmental analysis.

Form EIA-861 Annual Electric Power Industry Report collects annual information on the retail sale, distribution, transmission, and generation of electric energy in the United States and its territories. The data includes related activities such as energy efficiency and demand response programs. In combination with Form EIA-861S short form and the monthly Form EIA-861M, this annual survey provides coverage of sales to ultimate customers of electric power and related activities.

Form EIA-861S Annual Electric Power Industry Report (Short Form) collects a limited set of information annually from small companies involved in the retail sale of electricity. A complete set of annual data are collected from large companies on Form EIA-861. The small utilities that currently report on Form EIA-861S are required to complete Form EIA-861 once every eight years to provide updated information for the statistical estimation of uncollected data.

Form EIA-861M Monthly Electric Power Industry Report collects monthly information from a sample of electric utilities, energy service providers, and distribution companies that sell or deliver electric power to end users. Data included on this form includes sales and revenue for end-use sectors—residential, commercial, industrial, and transportation. This survey is the monthly complement to the annual data collection from the universe of respondents that report on Form EIA-861 and Form EIA-861S.

Form EIA-923A Annual Power Plant Operations Report collects annual information from electric power plants in the United States but not reporting on the EIA-923M. This data includes electric power generation, energy source consumption, end of reporting period fossil fuel stocks, as well as the quality and cost of fossil fuel receipts.

Form EIA-923M Monthly Power Plant Operations Report collects monthly information from electric power plants in the United States on electric power generation, energy source consumption, end of reporting period fossil fuel stocks, as well as the quality and cost of fossil fuel receipts.

Form EIA-923S Supplemental Power Plant Operations Report collects information from a subset of EIA-923M electric power plants in the United States on non-utility source and disposition of electricity and environmental data.

Form EIA-930 Balancing Authority Operations Report collects hourly electric power operating data from the 63 Balancing Authorities (BAs) in the contiguous United States, including demand, forecast demand, net generation, and interchange data.

Form EIA-930A Balancing Authority Generator Inventory Report collects an inventory of electric generating units from the 63 Balancing Authorities (BAs) in the contiguous United States on an annual basis.

Pretesting Interviews: EIA can conduct 100 pretesting interviews each year for testing purposes. These methodologies test or evaluate new terminology, unclear questions in surveys, unclear instructions, or questions that may be added to the Electric Power Surveys. This will help improve ongoing surveys and reduce errors due to respondent confusion.

(4a) Proposed Changes to the Information Collection:

EIA proposes to discontinue Form EIA-63B, Photovoltaic Module Shipments Report. EIA has determined that the value of the data collected by the survey no longer exceeds the burden of collecting and publishing it.

EIA is proposing to make changes to the frame size for the EIA-860A, EIA-860M, EIA-923A, and EIA-923M to ensure that all new generating units are accounted for. These frame size changes and resulting increases in the estimates for the number of respondents, number of total responses, and number of burden hours are reflected in the below annual estimates values.

(5) Annual Estimated Number of Respondents: 29,989.

Form EIA-860A (without schedule 6) is estimated to have 6,700 respondents;

Form EIA-860A (with schedule 6) is estimated to have 811 respondents;

Form EIA-860M is estimated to have 508 respondents;

Form EIA-861A is estimated to have 1,735 respondents;

Form EIA-861S is estimated to have 1,692 respondents;

Form EIA-861M is estimated to have 650 respondents;

Form EIA-923A is estimated to have 11,142 respondents;

Form EIA-923S is estimated to have 2,946 respondents;

Form EIA-923M is estimated to have 3,579 respondents;

Form EIA-930 is estimated to have 63 respondents;

Form EIA-930A is estimated to have 63 respondents;

Pretesting has 100 respondents;

(6) Annual Estimated Number of Total Responses: 101,177;

(7) Annual Estimated Number of Burden Hours: 251,092;

(8) Annual Estimated Reporting and Recordkeeping Cost Burden: EIA estimates that there are no capital and start-up costs associated with this data collection. The information is maintained during the normal course of business. The cost of the burden hours is estimated to be $23,851,229.08 (251,092 burden hours times $94.99 per hour). Other than the cost of burden hours, EIA estimates that there are no additional costs for generating, maintaining, and providing this information.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on August 25, 2025.
Samson A. Adeshiyan,
Director, Office of Statistical Methods & Research, U.S. Energy Information Administration.

[FR Doc. 2025-16450 Filed 8-27-25; 8:45 am]

BILLING CODE 6450-01-P